DEPARTMENT OF LABOR

Employment and Training Administration

Public Meeting of the Advisory Committee on Apprenticeship (ACA)

AGENCY: Employment and Training Administration, Labor.

ACTION: Notice of an open ACA meeting.

SUMMARY: Pursuant to section 10 of the Federal Advisory Committee Act (Pub. L. 92-463; 5 U.S.C. APP. 1), notice is hereby given of an open meeting of the Advisory Committee on Apprenticeship (ACA).

Time and Date: The meeting will begin at approximately 8:30 a.m. on Tuesday, June 12, 2007, and continue until approximately 5 p.m. The meeting will reconvene at approximately 8:30 a.m. on Wednesday, June 13, 2007, and adjourn at approximately 5 p.m.

Place: Holiday Inn on The Hill, 415 New Jersey Avenue, NW., Washington, DC 20001, (202) 638-1616.

The agenda is subject to change due to time constraints and priority items which may come before the Committee between the time of this publication and the scheduled date of the ACA meeting.

FOR FURTHER INFORMATION CONTACT: Mr. Anthony Swoope, Administrator, Office of Apprenticeship, U.S. Department of Labor, Room N-5311, 200 Constitution Avenue, NW., Washington, DC 20210. Telephone: (202) 693-2796, (this is not a toll-free number).

Matters To Be Considered

The agenda will focus on the following topics:

• Status of the ACA's Recommendations to the Secretary

• The 70th Anniversary of the National Apprenticeship Act

• Workforce Innovations 2007

• Apprenticeship Integration with Workforce Investment Act (WIA) System

Status

Members of the public are invited to attend the proceedings. Individuals with disabilities should contact Ms. Kenya Huckaby at (202) 693-3795 no later than Tuesday, June 5, 2007, if special accommodations are needed.

Any member of the public who wishes to file written data or comments pertaining to the agenda may do so by sending the data or comments to Mr. Anthony Swoope, Administrator, Office of Apprenticeship, U.S. Department of Labor, Room N-5311, 200 Constitution Avenue, NW., Washington, DC 20210. Such submissions should be sent by Tuesday, June 5, 2007, to be included in the record for the meeting.

Any member of the public who wishes to speak at the meeting should indicate the nature of the intended presentation and the amount of time needed by furnishing a written statement to the Designated Federal Official, Mr. Anthony Swoope, by Tuesday, June 5, 2007. The Chairperson will announce at the beginning of the meeting the extent to which time will permit the granting of such requests.

Signed at Washington, DC, this 17th day of May, 2007.
Emily Stover DeRocco,
Assistant Secretary for Employment and Training.

[FR Doc. E7-9920 Filed 5-22-07; 8:45 am]

BILLING CODE 4510-FR-P